DEPARTMENT OF LABOR

Office of the Secretary; Submission for OMB Review; Comment Request

June 6, 2000.

The Department of Labor (DOL) has submitted the following public information collection requests (ICRs) to the Office of Management and Budget (MB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ({202} 219-5096 ext. 159 or by E-mail to Kurz-Karin@dol.gov). To obtain documentation for ESA, MSHA, OSHA, and VETS contact Darrin King ({202} 219-5096 ext. 151 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 ({202} 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Reinstatement, with change, of a previously approved collection for which approval has expired.

Agency: Employment and Training Administration.

Title: Senior Community Service Employment Program (SCSEP).

OMB Number: 1205-0040.

Affected Public: State, Local, or Tribal Government; Not-for-profit institutions; Federal Government.

| Total respondents | Frequency | Total responses | Average time per response (hours) | Total burden hours
ETA Activity
Quarterly Progress Report (ETA 5140) | 62 | Semiannually | 124 | 8 | 992
Poster Placement | 62 | N/A | 62 | 1 | 62
Equitable Distribution Report (ETA 8705) | 55 | Annually | 55 | 12 | 660
Grant Application Signature Sheet (ETA-5163) | 62 | Annually | 62 | 1 | 62
Total ETA Activity | 62 |  | 434 | 4 | 1,776
Standard Form Activity
Financial Status Report (SF-269) | 62 | Quarterly and Final | 310 | 8 | 2,480
Grant Planning (SF 424A and 424) | 62 | Annually | 62 | 40 | 2,480
Total SF Activity | 62 |  | 372 | 13.3 | 4,960

Total Burden: 1,776 Hours.

Total annualized capital/startup costs: $0.

Total annual costs (operating/maintaining systems or purchasing services): $0.

Description: The Senior Community Service Employment Program (SCSEP) provides part-time employment in community service activities for low-income seniors who are age 55 or older. Currently, over 60,000 people are enrolled in the program and during the course of a year 100,000 people will be enrolled. State governments and 10 national non-profit organizations operate the program.

Ira L. Mills,
Departmental Clearance Officer.

[FR Doc. 00-15146 Filed 6-14-00; 8:45 am]

BILLING CODE 4510-30-M